DEPARTMENT OF HEALTH AND HUMAN SERVICES

Administration for Children and Families

Submission for OMB Review; Comment Request

Title: Developmental Disabilities Protection & Advocacy Program Performance Report

OMB No.: 0980-0160

Description: This information collection is required by federal statute. Each State Protection and Advocacy System must prepare and submit a Program Performance Report for the preceding fiscal year of activities and accomplishments and of conditions in the State. The information in the Annual Report will be aggretated into a national profile of Protection and Advocacy Systems. It will also provide ADD with an overview of program trends and achievements and will enable ADD to respond to administration and congressional requests for specific information on program activities. This information will also be used to submit an Annual Report to Congress as well as to comply with requirements in GPRA.

Respondents: State and Tribal Governments.

Annual Burden Estimates
Instrument | Number of respondents | Number of responses per respondent | Average burden hours per response | Total burden hours
P&A PPR | 57 | 1 | 44 | 2,508
Estimated Total Annual Burden Hours |  |  | 44 | 2,508

Additional Information: Copies of the proposed collection may be obtained by writing to the Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503; Attn: Desk Officer for ACF.

Dated: July 11, 2002.
Bob Sargis,
Reports Clearance Officer.

[FR Doc. 02-17939 Filed 7-16-02; 8:45 am]

BILLING CODE 4184-01-M